DEPARTMENT OF ENERGY

Federal Energy Regulatory Commission

[Docket No. ER20-588-000]

Midcontinent Independent System Operator, Inc.; Supplemental Notice of Technical Conference

By order dated March 10, 2020,¹ the Commission directed staff to convene a technical conference regarding Midcontinent Independent System Operator, Inc.'s (MISO) filing of proposed revisions to its Open Access Transmission, Energy and Operating Reserve Markets Tariff to allow for the selection of a storage facility as a transmission-only asset (SATOA) in the MISO Transmission Expansion Plan (MTEP). The technical conference will explore issues including, but not limited to, MISO's proposed evaluation and selection criteria for SATOAs, the SATOA's market activities and any potential wholesale market impacts of those activities, how MISO's current formula rate structure accommodates cost recovery for SATOAs, a SATOA's potential effects on the generator interconnection queue, and operating guides that will apply to a SATOA.²

¹ Midcontinent Indep. Sys. Operator, Inc., 170 FERC 61,186 (2020).

² Id. P 56.

As announced in the Notice of Technical Conference issued on April 10, 2020, the Commission will hold this staff-led technical conference on Monday, May 4, 2020, between 9:00 a.m. and 5:00 p.m. (Eastern Time). As explained in the April 10, 2020 notice, the conference will be held remotely. Questions that will be discussed at the technical conference were also included in the April 10, 2020 notice.

The conference will include discussions between Commission staff and MISO. Commissioners may also participate in the technical conference. If time permits, there may be an opportunity for parties that are participating in the conference to ask questions or provide comments. The technical conference will not be transcribed.

The agenda (attached to this Notice) and information on joining the technical conference is posted on the Events Calendar available at https://www.ferc.gov/EventCalendar/EventsList.aspx?View=listview.

Commission conferences are accessible under section 508 of the Rehabilitation Act of 1973. For accessibility accommodations, please send an email to accessibility@ferc.gov or call toll free 1-866-208-3372 (voice) or 202-502-8659 (TTY); or send a fax to 202-208-2106 with the required accommodations.

Following the technical conference, the Commission will consider post-technical conference comments submitted on or before May 25, 2020. The written comments will be included in the formal record of the proceeding, which, together with the record developed to date, will form the basis for further Commission action.

For more information about this technical conference, please contact Mark Byrd, 202-502-8071, mark.byrd@ferc.gov. For information related to logistics, please contact Sarah McKinley, 202-502-8368, sarah.mckinley@ferc.gov.

Dated: May 1, 2020.
Kimberly D. Bose,
Secretary.

Storage as a Transmission-Only Asset (SATOA) in MISO

Technical Conference—Webex Teleconference

Monday, May 4, 2020

9:00 a.m.-5:00 p.m.

9:00 a.m.-10:30 a.m. Evaluation and Selection Criteria for SATOA

• Identified Transmission System performance requirement

• Unique Characteristics or Circumstances

• Functioning as SATOA Compared to Market Participant

10:30 a.m.-10:45 a.m. Break

10:45 a.m.-11:30 a.m. Evaluation and Selection Criteria for SATOA (continued)

• Traditional Transmission Project compared to SATOA

• SATOA Evaluation Criteria

• Communication of Decision Approving a SATOA

11:30 a.m.-12:45 p.m. SATOA Market Activities and Market Impacts

• Meaning of “Functional Control”

• Impact of SATOA Activity on Wholesale Market

• Information Regarding Market Participant

12:45 p.m.-1:30 p.m. Lunch

1:30 p.m.-2:15 p.m. Cost Recovery for SATOAs

• Formula Rate Structure

2:15 p.m.-3:30 p.m. Impact on the Generator Interconnection Queue

• Assessing the Impact of a SATOA on Newly Interconnecting Generating Resources

• Assessment of Delays and Mitigation

3:30 p.m.-3:45 p.m. Break

3:45 p.m.-4:15 p.m. Operating Guides • Information in Operating Guides

4:15 p.m.-5:00 p.m. Miscellaneous • Emergency Conditions • Reliability Impacts

[FR Doc. 2020-09751 Filed 5-6-20; 8:45 am]

BILLING CODE 6717-01-P